FEDERAL COMMUNICATIONS COMMISSION

47 CFR Part 0

[DA 03-445]

Commission Organization

AGENCY: Federal Communications Commission.

ACTION: Final rule.

SUMMARY: This document amends the Commission's rules to reflect the name change of the Commission's Office of Plans and Policy.

DATES: Effective February 7, 2003.

FOR FURTHER INFORMATION CONTACT: Mary Beth Richards, 202-418-1514.

SUPPLEMENTARY INFORMATION: This action was taken by order of the Managing Director on authority delegated by the Commission. The order (DA 03-445) was released on March 5, 2003, and the full text of the order is available for public inspection on-line at http://www.fcc.gov or in the Reference Center of the Federal Communications Commission, 445 12th Street, SW., Washington, D.C. 20554. To more accurately reflect the expanded emphasis by the Commission's Office of Plans and Policy on strategic planning, the Office's name has been changed to the Office of Strategic Planning and Policy Analysis. Since this name change pertains to agency organization, procedure, and practice, the notice and comment provisions of the Administrative Procedure Act contained in 5 U.S.C. 553(b) are not applicable.

Federal Communications Commission.
Andrew S. Fishel,
Managing Director.

For the reasons set forth in the preamble, the Federal Communications Commission amends 47 CFR part 0 as follows:

PART 0—COMMISSION ORGANIZATION

1. The authority citation for part 0 continues to read as follows:

Authority: Secs. 5, 48 Stat. 1068, as amended; 47 U.S.C. 155, 225, unless otherwise noted.

§§ 0.5, 0.21, 0.31, and 0.271 [Amended]

2. In part 0 remove the words “Office of Plans and Policy” and add, in their place, the words “Office of Strategic Planning and Policy Analysis” in the following places:

a. Center heading before §§ 0.21 and 0.271;

b. Section 0.5(a)(4);

c. Section 0.21 introductory text;

d. Section 0.31(g); and

e. Section 0.271(a).

[FR Doc. 03-5829 Filed 3-11-03; 8:45 am]

BILLING CODE 6712-01-P